DEPARTMENT OF AGRICULTURE

Food and Nutrition Service

Agency Information Collection Activities: Proposed Collection; Comment Request—School Food Purchase Study IV

AGENCY: Food and Nutrition Service (FNS), USDA.

ACTION: Notice of information collection; request for comment.

SUMMARY: In accordance with the Paperwork Reduction Act of 1995, this notice invites the general public and other public agencies to comment on this proposed information collection. This collection is a request for reinstatement with changes of a previously approved information collection under OMB Control Number 0584-0471, which expired on March 21, 2012. This is the fourth in a series of studies designed to provide statistically valid national estimates of food acquisitions (both purchased foods and USDA Foods) made by school food authorities (SFAs) participating in the Federally supported school nutrition programs.

DATES: Written comments must be received on or before July 13, 2020.

ADDRESSES: Comments may be sent to: Jinee Burdg, MPP, RDN, LDN, Food and Nutrition Service, U.S. Department of Agriculture, 1320 Braddock Place, Alexandria, VA 22314. Comments may also be submitted via fax to the attention of Jinee Burdg at 703-305-2576 or via email to Jinee.Burdg@usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 1320 Braddock Place, Alexandria, VA 22314.

All responses to this notice will be summarized and included in the request for Office of Management and Budget approval. All comments will be a matter of public record.

FOR FURTHER INFORMATION CONTACT: Requests for additional information or copies of this information collection should be directed to Jinee Burdg at 703-305-2744.

SUPPLEMENTARY INFORMATION:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: School Food Purchase Study IV.

Form Number: None.

OMB Number: 0584-0471

Expiration Date: 3/21/2012

Type of Request: Reinstatement with changes of a previously approved OMB package.

Abstract: This study is the fourth in a series of studies designed to provide statistically valid national estimates of food acquisitions (both purchased foods and USDA Foods) made by school food authorities (SFAs) participating in the Federally supported National School Lunch Program (NSLP) and School Breakfast Program (SBP). In the decade following the release of the third School Food Purchase Study (SFPS III) report, the school nutrition environment has undergone considerable changes. Key among them are the provisions of the Healthy, Hunger-Free Kids Act of 2010 (Pub. L. 111-296) which required updated nutrition standards for the NSLP and SBP. These standards require meals to include greater quantities of fruits and vegetables, whole grains, and low-fat dairy and reduced sodium. These changes have affected the purchasing practices of SFAs in terms of the types, volume, and cost of foods. This study is restricted to public SFAs to allow for direct comparisons of the results (i.e., changes in the mix of acquired foods) to the prior study, SFPS III, which was conducted in SY 2009-2010. In addition, the study will describe food purchase practices of SFAs so that information associated with food purchasing efficiency can be provided to all SFAs.

The study will include a nationally representative sample of 630 public SFAs. At the onset of the study, State-level Child Nutrition Directors will email sampled SFAs of their selection in to the study and encourage their participation. All sampled SFAs will be invited to attend a study overview webinar that will provide details of the study and highlight the upcoming data collection activities. Following the webinar, SFAs will complete an online Survey of Food Purchase Practices, which will be pretested with four SFA Directors. For collection of food purchase data, SFAs will be assigned to one of four quarters of the school year, and invited to attend a food purchase data webinar held at the beginning of that quarter. SFAs will then submit detailed food purchase data (vendor summaries, invoices, etc.) for all food acquisitions made during their assigned quarter. This ensures that data are collected from SFAs across the entire school year and minimizes the burden on individual SFAs. It also allows for the examination of relationships between food purchasing practices and annual costs of foods to schools.

To supplement the food purchase data provided by SFAs, State Distributing Agency Directors will provide USDA Foods procurement data for their sampled SFAs for each quarter. In addition, up to 25 of the top (most frequent) food service management companies (FSMCs) and food vendors serving sampled SFAs will be provided study background information so they are aware of the study and its purpose.

Though the data collected from SFAs in SFPS IV are almost exactly the same as in the prior study, technological advances and a change in approach to the timing of the data collection activities account for differences in the burden estimate from the prior study. In SFPS III, sampled SFAs completed a paper-based survey of food purchase practices and provided detailed food purchase data, all after the end of the quarter of the school year for which they were sampled. In this study, SFPS IV, the survey is web-based and will be completed by all SFAs at the beginning of the study, following OMB approval. SFAs will separately provide purchase data for their sampled quarter. In addition, to reduce SFA burden and help ensure the completeness of the data, all State Distributing Agencies will provide data on USDA Foods for the sampled SFAs in each quarter. Expanding the respondent groups from SFAs alone to including all SDAs, and collecting data from SDAs on a quarterly basis has increased the number of responses from those reported for the SFPS III study. Despite the increase in responses, however, the burden hours for the SFPS IV have decreased, because the activities for this study are estimated to take from 1 minute to 5.25 hours to complete, as opposed to the SFPS III where the activities were estimated to take from 30 minutes to 10 hours to complete.

Affected Public: State, Local and Tribal Government and Business or Other-for-Profit. The respondents include Child Nutrition and State Distributing Agency Directors (State Government), SFA Directors (Local Government), and FSMCs and food vendors (For Profit Businesses).

Estimated Number of Respondents: The universe of participants is 757, and 551 will respond to data collection activities and 206 will be non-respondents. This includes four SFA Directors for cognitive testing of the study instruments. In the main study, up to 49 Directors from State Child Nutrition Agencies and 49 Directors from State Distributing Agencies will respond to the data collection activity. Six hundred and thirty (630) SFA Directors within the contiguous United States will be invited to participate in the study; 504 will complete the Survey of Food Purchase Practices; and 424 will provide food purchase data. Twenty five (25) FSMCs/food vendors will be informed of the study via email and all will read the informational email and study brochure.

Estimated Frequency of Response: Respondents will complete each data collection activity once. The estimate of frequency of responses across the entire collection is 14.0 (10,582/757): 18.3 (10,060/551) for respondents and 2.5 (522/206) for nonrespondents. State Child Nutrition Directors will respond twice; State Distributing Agencies will respond up to five times; FSMCs/vendors will respond twice to read the background material and study brochure; and SFA Directors will respond five times annually (to read the study brochure, to attend two webinars, complete the Survey of Food Purchase Practices, and provide detailed food purchase data for one quarter). The SFAs are assigned to one of the four quarters and will only report data for the one quarter. The expected response and non-response for these four quarters have been combined into one line item in the burden chart, instead of being broken down into the four quarters.

Estimated Total Annual Responses: 10,582. This includes 10,060 for respondents and 522 for non-respondents.

Estimated Time per Response per Respondent: The estimated time of response varies from 1 minute to 5.25 hours, depending on the activity. The estimated time per response across the entire collection is 0.46 hours (4,844 hours/10,582 responses). We will cognitively test the survey with four SFA directors. The cognitive test of the survey will take 2 hours; this includes time to schedule and conduct the interview.

Estimated Total Annual Burden on Respondents: The total annual public reporting burden (see burden table below) for this collection of information is estimated at 4,844 hours; 4,835 for respondents and 9 for nonrespondents.

Pamilyn Miller,
Administrator, Food and Nutrition Service.

[FR Doc. 2020-10206 Filed 5-12-20; 8:45 am]

BILLING CODE 3410-30-P